NATIONAL SCIENCE FOUNDATION

Business and Operations Advisory Committee; Notice of Meeting

In accordance with Federal Advisory Committee Act (Pub. L. 92-463, as amended), the National Science Foundation announces the following meeting:

Name: Business and Operations Advisory Committee (9556).

Date/Time:March 31, 2004; 8 a.m. to 5:30 p.m. (e.s.t.)

Place: National Science Foundation, 4201 Wilson Boulevard, Room 1235, Arlington, VA.

Type of Meeting: Open.

Contact Person: Joan Miller, National Science Foundation, 4201 Wilson Boulevard, Arlington, VA 22230; (703) 292-8200.

Purpose of Meeting: To provide advice concerning issues related to the oversight, integrity, development and enhancement of NSF's business operations.

Agenda: March 31, 2004

AM: Welcome and Introduction of new members; Updates—Office of Budget, Finance, and Award Management and Office of Information and Resource Management activities. Presentation and Discussion—Updates on recent reports; update on Business Analysis.

PM: Presentation and Discussion—NSF Strategic Goal for Organizational Excellence; Meeting with NSF Deputy Director; Committee Discussion; Planning for next meeting; feedback; other business.

Dated: March 3, 2004.
Susanne Bolton,
Committee Management Officer.

[FR Doc. 04-5215 Filed 3-8-04; 8:45 am]

BILLING CODE 7555-01-M